DEPARTMENT OF COMMERCE

National Institute of Standards and Technology

Announcement of a Public Workshop Regarding a Proposed Memorandum of Understanding Between the National Institute of Standards and Technology and the National Cooperation for Laboratory Accreditation

AGENCY: National Institute of Standards and Technology.

ACTION: Notice of public meeting.

SUMMARY: The National Institute of Standards and Technology (NISTO invites interested parties to attend a public workshop regarding a proposed Memorandum of Understanding (MOU) between NIST and the National Cooperation for Laboratory Accreditation (NACLA). The workshop will include a brief presentation on the components of the MOU, and an opportunity for discussion.

The purpose of the proposed MOU is to develop and maintain a system in the United States that will (a) recognize competent laboratory accreditation bodies to accredit testing and calibration laboratories when the services of such laboratories are required to demonstrate compliance with procurement and regulatory requirements of government at Federal, state or local levels, and to meet the needs of the private sector; (b) promote the use by government and the private sector of such accreditation bodies; and, (c) recognize competent laboratory accreditation bodies to carry out designated activities under government-to-government agreements on the mutual recognition of conformity assessment activities in support of NIST's role as a designating authority under those agreements.

The proposed MOU with NACLA will support a key goal of the National Technology Transfer and Advancement Act of 1995 (NTTAA) by reducing redundancy and complexity in the development and promulgation of conformity assessment requirements and measures by government at all levels. The draft MOU will be posted on the NIST website at http://www.ts.nist.gov by June 1st. Copies of the draft MOU may also be requested from NIST. Interested parties are invited to submit comments to NIST a any time before the workshop. There is no charge to attend the workshop.

DATES: The workshop will be held on June 23, 2000, from 10 a.m. to 12 p.m.

ADDRESSES: The workshop will be held at The National Institute Standards and Technology, Administration Building, Lecture Room A, 100 Bureau Drive, Gaithersburg, MD 20899. Comments on the proposed MOU should be sent to the attention of “NACLA Comments” at the Office of the Director, Technology Services, National Institute of Standards and Technology, Mail Stop 2000, Gaithersburg, MD 20899-2000.

FOR FURTHER INFORMATION CONTACT: For further information, you may telephone 301-975-2396 or e-mail: mary.saunders@nist.gov.

SUPPLEMENTARY INFORMATION: The National Technology Transfer and Advancement Act of 1995 (PL 104-113, 1996) directs NIST to coordinate Federal, state and local conformity assessment activities with the private sector with the goal of eliminating unnecessary duplication and complexity in the development and promulgation of conformity assessment requirements and measures. NIST focused on coordination of laboratory accreditation as a key element of conformity assessment in the Implementation Plan it provided to Congress. NIST believes that a proposed MOU with NACLA supports an important goal of the NTTAA, to reduce redundancy and complexity in the development and promulgation of conformity assessment requirements and measures by government at all levels. The MOU will also improve coordination and communication between and within the private and public sectors on conformity assessment requirements and practices.

The purpose of the MOU will be to develop and maintain a system in the United States that will (a) recognize competent laboratory accreditation bodies to accredit testing calibration laboratories when the services of such laboratories are required to demonstrate compliance with procurement and regulatory requirements of government at Federal, state or local levels; (b) promote the use by government and the private sector of such accreditation bodies; and, (c) recognize competent laboratory accreditation bodies to carry out designated activities under government-to-government agreements on the mutual recognition of conformity assessment activities in support of NIST's role as a designating authority under those agreements.

A brief presentation on the MOU will be made at the workshop. After the presentation there will be an opportunity for public discussion. Written comments may be submitted to NIST at any time prior to the workshop. There is no attendance fee.

Raymond G. Kammer,
Director.

[FR Doc. 00-12636 Filed 5-18-00; 8:45 am]

BILLING CODE 3510-13-M